DEPARTMENT OF TRANSPORTATION

Federal Railroad Administration

Environmental Impact Statement for the Los Angeles Union Station Run-Through Track Project

AGENCY: Federal Railroad Administration (FRA), Department of Transportation (DOT).

ACTION: Notice of intent to prepare an Environmental Impact Statement

SUMMARY: The Federal Railroad Administration (FRA), in accordance with the National Environmental Policy Act (NEPA) of 1969, intends to prepare an Environmental Impact Statement (EIS) to assess potential environmental impacts of the proposed Los Angeles Union Station Run-Through Track Project. The EIS is being prepared with the California Department of Transportation (Department) in conjunction with an Environmental Impact Report (EIR) that will address the requirements of the California Environmental Quality Act.

This EIS will address the potential environmental impacts of a reasonable range of alternative alignments for the proposed project and will provide a meaningful opportunity for the public to comment on this project. This notice informs the public of the proposed project, announces the dates, times, and places for scoping meetings, and solicits public comment. The scoping process will include notifying the general public and Federal, State, and local agencies of the proposed project. The purpose of scoping is to identify public and agency concerns, and alternatives to be considered in the EIS and EIR.

DATES: Written Comments: Written comments on the scope of the EIS for the proposed project will be accepted and should be received no later than July 29, 2002. Comments received after this date will be considered to the extent practicable. Comments may be addressed to Mr. David Valenstein at the address noted below.

Scoping Meetings: Two scoping meetings will be held. An open house format meeting for the public will be held from 5:00 to 7:30 PM on Monday, June 24, 2002, at the headquarters of the Los Angeles Metropolitan Transportation Authority, One Gateway Center, Los Angeles, CA 90012, in the Union Station Conference Room. A meeting intended primarily for environmental and regulatory agencies will be held at 9:00 AM on Tuesday, June 25, 2002, in the offices of Myra Frank & Associates, 811 West 7th Street, Suite 800, Los Angeles, CA 90017.

FOR FURTHER INFORMATION CONTACT: For information about the project or the EIR please contact: Mr. Gary Iverson, California Department of Transportation, District 7, Division of Environmental Planning, 120 South Spring Street, Los Angeles, California 90012. Phone: 213-897-3818. For general information on the FRA environmental process, or for questions and comments on the scope of the EIS, please contact: David Valenstein, Environmental Program Manager, 1120 Vermont Avenue, NW, MS 20, Washington, DC 20590. Phone: 202-493-6368.

SUPPLEMENTARY INFORMATION: The FRA, in accordance with Section 102(2) of the NEPA of 1969, 42 U.S.C. 4321 et seq., intends to prepare an EIS to assess potential environmental impacts of the proposed Los Angeles Union Station Run-Through Track Project. The EIS is being prepared with the Department in conjunction with an EIR that will address the requirements of the California Environmental Quality Act. To ensure that a full range of related issues and alternatives for this project are addressed, FRA invites comments on the scope of the proposed EIS.

Los Angeles Union Station (LAUS), also known as Los Angeles Union Passenger Terminal, is located at 800 N. Alameda Street, Los Angeles, California 90012, in the northeast section of downtown Los Angeles. LAUS serves intercity Amtrak service, commuter Metrolink, subway Metrorail, and several local transit bus lines including MTA and downtown DASH shuttles. Union Station is not located directly on main line tracks, but rather is accessed via a set of spur tracks. The current operation of the station requires trains to pull into the terminal and then reverse their direction of travel after unloading or loading passengers. Since both entering and exiting trains must pass through the same set of tracks to connect to the main line, they are subject to delays either at the station platforms or on the connecting tracks while awaiting a slot at the platforms.

The Department proposes a project that would extend two tracks south of their current terminus on an aerial structure, over US 101, through a commercial/industrial area between US 101 and First Street, and connect to main line tracks on the west side of the Los Angeles River. This would allow some of the trains that use the station to avoid the pull in/back out situation. Overall, the Run-Through Project structure would form an S-curve, connecting at its north/west end to track platforms at Union Station and at its south/east end to some point along the Burlington Northern Santa Fe Railroad (BNSF) main line in the vicinity of the 1st Street Bridge, over a distance of about one mile. The aerial structure is needed to avoid impacts to local streets. Construction of the elevated track structure would involve placing the support structures for the elevated rail tracks above existing streets and/or parcels. Acquisitions of public and/or private parcels would be required, based on the selected alignment. The particular alignment and touchdown point on the main line are the focus of key decisions to be made in this study.

The EIS will be prepared following the requirements of the Council on Environmental Quality's NEPA Implementing Regulations (40 CFR part 1500 et seq.) and FRA's Environmental Procedures (64 FR 28545, May 26, 1999). The EIS will analyze the construction and operational effects of selected alternative alignments for the proposed project. The EIS will examine the potential impact to a number of resource areas, including but not limited to the following: aesthetics, air quality, cultural resources, geology/soils, hazardous materials, land use, noise, socioeconomic, and Section 4(f) resources. The EIS process will include full public participation, disclosure, and coordination, and will encourage involvement from appropriate Federal, State and local agencies. The Draft EIS process will include public information/scoping meetings, public review of the Draft EIS and a public hearing on the Draft EIS.

Issued in Washington, DC., on June 12, 2002.
Mark E. Yachmetz,
Associate Administrator for Railroad Development.

[FR Doc. 02-15381 Filed 6-18-02; 8:45 am]

BILLING CODE 4910-06-P